DEPARTMENT OF HEALTH AND HUMAN SERVICES

National Institutes of Health

Center for Scientific Review; Cancellation of Meeting

Notice is hereby given of the cancellation of the Molecular Genetics A Study Section, October 21, 2004, 8 a.m. to October 22, 2004, 4 p.m., Four Points by Sheraton Bethesda, 8400 Wisconsin Avenue, Bethesda, MD 20814, which was published in the Federal Register on September 20, 2004, 69 FR 56236-56238.

The meeting is cancelled due to lack of a quorum.

Dated: October 5, 2004.
LaVerne Y. Stringfield,
Director, Office of Federal Advisory Committee Policy.

[FR Doc. 04-23000 Filed 10-13-04; 8:45 am]

BILLING CODE 4140-01-M